DEPARTMENT OF COMMERCE

International Trade Administration

[A-423-808]

Stainless Steel Plate in Coils From Belgium: Extension of Time Limit for Final Results of Antidumping Duty Administrative Review

AGENCY: Import Administration, International Trade Administration, U.S. Department of Commerce.

DATES: Effective Date: September 15, 2008.

FOR FURTHER INFORMATION CONTACT: Cindy Robinson or George McMahon, AD/CVD Operations, Office 3, Import Administration, International Trade Administration, U.S. Department of Commerce, 14th Street & Constitution Avenue, NW., Washington, DC 20230; telephone (202) 482-3797 or (202) 482-1167, respectively.

Background

On June 6, 2008, the U.S. Department of Commerce (Department) published in the Federal Register the preliminary results of the administrative review of the antidumping duty order on stainless steel plate in coils From Belgium. See Stainless Steel Plate in Coils from Belgium: Preliminary Results of Antidumping Duty Administrative Review, 73 FR 32298 (June 6, 2008) (Preliminary Results). The current deadline for the final results of this review is October 4, 2008.

Extension of Time Limit for Final Results of Review

Section 751(a)(3)(A) of the Tariff Act of 1930, as amended (the Act), requires the Department to issue the final results in an administrative review within 120 days after the date on which the preliminary results were published. However, if it is not practicable to complete the review within this time period, section 751(a)(3)(A) of the Act allows the Department to extend the time limit for the final results to up to 180 days from the date of publication of the preliminary results. See also 19 CFR 351.213(h)(2).

The Department finds that it is not practicable to complete the review within the original time frame due to the further analysis required in this case. As referenced in the Preliminary Results, the Department recently requested public comment regarding the impact of cost changes on the cost averaging period.¹ In response to this request, the Department received a number of comments from parties regarding the use of shorter cost averaging periods. The Department will need additional time to analyze the complex issues raised in these comments. Furthermore, the Department needs additional time to analyze respondent, Ugine and ALZ Belgium's cost of production supplemental questionnaire response, which was received after the Department's issuance of the Preliminary Results. Consequently, in accordance with section 751(a)(3)(A) of the Act and 19 CFR 351.213(h)(2), the Department is extending the time limit for the completion of the final results of the review by an additional 60 days. Therefore, the final results of review are now due no later than December 3, 2008.

¹ See Antidumping Methodologies for Proceedings That Involve Significant Cost Changes Throughout the Period of Investigation (POI)/Period of Review (POR) That May Require Using Shorter Cost Averaging Periods; Request for Comment, 73 FR 26364 (May 9, 2008).

This extension notice is issued and published in accordance with section 751(a)(3)(A) of the Act and 19 CFR 351.213(h)(2).

Dated: September 9, 2008.
Stephen J. Claeys,
Deputy Assistant Secretary for Import Administration.

[FR Doc. E8-21472 Filed 9-12-08; 8:45 am]

BILLING CODE 3510-DS-P